DEPARTMENT OF ENERGY

Federal Energy Regulatory Commission

Combined Notice of Filings #2

August 19, 2005.

Take notice that the Commission received the following electric rate filings:

Docket Numbers: ER04-419-007.

Applicants: Xcel Energy Operating Companies.

Description: Xcel Energy Services Inc. on behalf of the Xcel Energy Operating Companies submits revised tariff sheets to the Xcel Energy Operating Companies Joint Open Access Transmission Tariff in compliance with Order 2003-C.

Filed Date: 08/15/2005.

Accession Number: 20050817-0046.

Comment Date: 5 p.m. eastern time on Tuesday, September 06, 2005.

Docket Numbers: ER05-933-001.

Applicants: Midwest Independent Transmission System Operator, Inc.

Description: Midwest Independent Transmission System Operator, Inc. submits the Large Generator Interconnection Agreement among Java, LLC the Midwest ISO & Montana-Dakota Utilities Company, a division of MDU Resources Group, Inc.

Filed Date: 08/15/2005.

Accession Number: 20050817-0049.

Comment Date: 5 p.m. eastern time on Tuesday, September 06, 2005.

Docket Numbers: ER05-1101-001; ER05-1346-000.

Applicants: NorthWestern Energy .

Description: NorthWestern Corporation d/b/a NorthWestern Energy submits revised tariff sheets to their open access transmission tariff for NorthWestern Energy's Montana operations, Second Revised Sheet Nos. 197, 198, and 271, FERC Electric Tariff, Fifth Revised Volume No. 5, in compliance with FERC's order issued 7/26/05 Order in Docket No. ER05-1101-000 and Second Revised Sheet Nos. 245, 264, 91, 299, 300 and 305 in compliance with Commission's Order No. 2003-C.

Filed Date: 08/15/2005.

Accession Number: 20050818-0011.

Comment Date: 5 p.m. eastern time on Tuesday, September 06, 2005.

Docket Numbers: ER05-1104-001.

Applicants: Central Vermont Public Service Corporation.

Description: Central Vermont Public Service Corporation submits First Revised Sheet No. 6 to its FERC Electric Tariff, Original Volume No. 9, in compliance with the Commission's Order issued 7/20/05 in Docket No. ER05-1104-000.

Filed Date: 08/15/2005.

Accession Number: 20050817-0047.

Comment Date: 5 p.m. eastern time on Tuesday, September 06, 2005.

Docket Numbers: ER05-1195-001.

Applicants: Silverhill Ltd.

Description: Silverhill, Ltd. submits a revision to its FERC Rate Schedule, Original Volume No. 1, originally filed on 7/5/05.

Filed Date: 08/15/2005.

Accession Number: 20050817-0048.

Comment Date: 5 p.m. eastern time on Tuesday, September 06, 2005.

Docket Numbers: ER05-1215-001.

Applicants: Wholesale Electric Trading LP.

Description: Wholesale Electric Trading LP submits an amendment to its 7/15/05 petition in Docket No. ER05-1215-001 for acceptance of initial rate schedule, waivers and blanket authority.

Filed Date: 08/15/2005.

Accession Number: 20050816-0186.

Comment Date: 5 p.m. eastern time on Tuesday, September 06, 2005.

Docket Numbers: ER05-1333-000.

Applicants: Southern Company Services, Inc.

Description: Southen Company Services, Inc., on behalf of Alabama Power Company, Georgia Power Company, Gulf Power Company, Mississippi Power Company and Savannah Electric and Power Company (Southern Companies) submits revised tariff sheets to its Open Access Transmission Tariff.

Filed Date: 08/15/2005, as amended on 8/18/2005.

Accession Number: 20050816-0194.

Comment Date: 5 p.m. eastern time on Tuesday, September 06, 2005.

Docket Numbers: ER05-1334-000.

Applicants: Public Service Company of New Mexico.

Description: Public Service Company of New Mexico (PNM) submits revised tariff sheets to the Joint Open Access Transmission Tariff of PNM and Texas-New Mexico Power Company, pursuant to Order No. 2003-C .

Filed Date: 08/15/2005.

Accession Number: 20050816-0187.

Comment Date: 5 p.m. eastern time on Tuesday, September 06, 2005.

Docket Numbers: ER05-1335-000.

Applicants: El Paso Electric Company.

Description: El Paso Electric Company files pro forma revisions to Attachment J of its Open Access Transmission Tariff, in compliance with the Commission's 2003-C.

Filed Date: 08/15/2005.

Accession Number: 20050816-0188.

Comment Date: 5 p.m. eastern time on Tuesday, September 06, 2005.

Docket Numbers: ER05-1337-000.

Applicants: San Diego Gas & Electric Company.

Description: San Diego Gas & Electric Company submits its annual transmission formula rate change filing.

Filed Date: 08/15/2005.

Accession Number: 20050816-0229.

Comment Date: 5 p.m. eastern time on Tuesday, September 06, 2005.

Docket Numbers: ER05-1338-000.

Applicants: Puget Sound Energy, Inc.

Description: Puget Sound Energy, Inc. submits pro forma revisions to Annex A, which includes the pro forma Large Generator Interconnection Procedures and Large Generator Interconnection Agreement, to its Open Access Transmission Tariff in compliance with the Commission's Order No. 661, Interconnection for Wind Energy, 111 FERC ¶ 61,353.

Filed Date: 08/15/2005.

Accession Number: 20050816-0185.

Comment Date: 5 p.m. eastern time on Tuesday, September 06, 2005.

Docket Numbers: ER05-1339-000.

Applicants: Puget Sound Energy, Inc.

Description: Puget Sound Energy, Inc. files pro forma revisions to Annex A to its Open Access Transmission Tariff, in compliance with the Commission's Order 2003-C, Standardization of Interconnection Agreement and Procedures, 111 FERC ¶ 61,401.

Filed Date: 08/15/2005.

Accession Number: 20050816-0184.

Comment Date: 5 p.m. eastern time on Tuesday, September 06, 2005.

Docket Numbers: ER05-1342-000.

Applicants: New England Power Pool.

Description: ISO New England Inc., the New England participating Transmission Owners, and the New England Power Pool submit revised tariff sheets to ISO New England Inc. FERC Electric Tariff No. 3, in compliance with the Commission's Order 2003-C, Standardization of Interconnection Agreement and Procedures, 111 FERC ¶ 61,401 (6/16/05).

Filed Date: 08/15/2005.

Accession Number: 20050818-0003.

Comment Date: 5 p.m. eastern time on Tuesday, September 06, 2005.

Docket Numbers: ER05-1343-000.

Applicants: ISO New England Inc.

Description: ISO New England Inc submits its Quaterly Report on Capital Projects and Quarterly Schedule of Unamortized Costs of Funded Capital Expenditures for the Second Quarter of 2005.

Filed Date: 08/15/2005.

Accession Number: 20050818-0004.

Comment Date: 5 p.m. eastern time on Tuesday, September 06, 2005.

Docket Numbers: ER05-1344-000.

Applicants: Entergy Services, Inc.

Description: Entergy Services on behalf of Entergy Arkansas, Inc., Entergy Gulf States, Inc., Entergy Louisiana, Inc., Entergy Mississippi, Inc., and Entergy New Orleans, Inc. (collectively, Entergy Operating Companies) submits its amended tariff sheets to its Open Access Transmission Tariff reflecting the revisions to the pro forma Standard Large Generator Interconnection Procedures and Standard Large Generator Interconnection Agreement set forth in Appendix A pursuant to Order 2003-C.

Filed Date: 08/15/2005.

Accession Number: 20050818-0013.

Comment Date: 5 p.m. eastern time on Tuesday, September 06, 2005.

Docket Numbers: ER05-1345-000.

Applicants: Black Hills Power, Inc.

Description: Black Hills Power, Inc, on behalf of itself, Basin Electric Power Cooperative and Powder River Energy Corporation (collectively Transmission Providers) submits revised tariff sheets to the Transmission Providers' Joint Open Access Transmission Tariff, in compliance with the Commission's Order 2003-C, 111 FERC ¶ 61,401 (2005).

Filed Date: 08/15/2005.

Accession Number: 20050818-0012.

Comment Date: 5 p.m. eastern time on Tuesday, September 06, 2005.

Docket Numbers: ER05-1347-000.

Applicants: Midwest Independent Transmission System Operator, Inc.

Description: Midwest Independent Transmission System Operator, Inc. submits proposed revisions to Attachment X of their Open Access Transmission and Energy Markets Tariff, FERC Electric Tariff, Third Revised Volume No. 1 in compliance with the Commission's Order No. 2003-C.

Filed Date: 08/15/2005.

Accession Number: 20050818-0010.

Comment Date: 5 p.m. eastern time on Tuesday, September 06, 2005.

Any person desiring to intervene or to protest in any of the above proceedings must file in accordance with Rules 211 and 214 of the Commission's Rules of Practice and Procedure (18 CFR 385.211 and 385.214) on or before 5 p.m. eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other and the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the web site that enables subscribers to receive email notification when a document is added to a subscribed dockets(s). For assistance with any FERC Online service, please e-mail FERCOnlineSupport@ferc.gov or call (866) 208-3676 (toll free). For TTY, call (202) 502-8659.

Linda Mitry,
Deputy Secretary.

[FR Doc. E5-4659 Filed 8-25-05; 8:45 am]

BILLING CODE 6717-01-P